DEPARTMENT OF DEFENSE

Office of the Secretary

Notice of an Extension of a TRICARE Demonstration Project for the State of Alaska

AGENCY: Office of the Secretary of Defense (Health Affairs)/TRICARE Management Activity, Department of Defense.

ACTION: Notice of extension of demonstration project.

SUMMARY: This notice advises interested parties of the extension of a Military Health System (MHS) demonstration project entitled “TRICARE Demonstration Project for the State of Alaska.” The original demonstration notice was published on May 18, 2004 (69 FR 28124-28125), and described a demonstration project to exempt the underwriting provisions for the cost of civilian health care in the State of Alaska from the TRICARE managed care support contract for the Western Region. The demonstration was to be conducted for up to 5 years after the start of health care delivery under the contract and therefore, was scheduled to end on March 31, 2009. On February 23, 2009, a notice was published in the Federal Register (74 FR 8068-8069) to extend the demonstration for 1 additional year. As the rulemaking process has not yet been completed, the demonstration project will now be extended for 1 additional year (March 31, 2011).

There is no cost impact that is caused by this extension.

DATES: Effective Date: The extension of the demonstration will be effective April 1, 2010.

FOR FURTHER INFORMATION CONTACT: Mr. Michael O'Bar, Office of the Assistant Secretary of Defense (Health Affairs)—TRICARE Management Activity, TRICARE Policy and Operations Directorate, 5111 Leesburg Pike, Suite 810, Falls Church, VA 22041-3206; telephone (703) 681-0039.

SUPPLEMENTARY INFORMATION:

A. Background

For additional information on the TRICARE Demonstration Project for the State of Alaska, please see 74 FR 8068-8069. The demonstration notice focused on the unique situation involved in the delivery of health care services in the State of Alaska, which cannot be addressed fully by applying all of the at-risk standards that apply to the TRICARE managed care support contracts under which services are provided in the other 49 States without some modification. Under the extended demonstration, the current Western Region managed care support contractor will continue to be exempt from the underwriting provisions for the cost of civilian health care in the State of Alaska. The contractor shall provide all the services required for Alaska as specified in the TRICARE Operations Manual, Chapter 23, but will not be responsible for the underwriting fee associated with providing those services under that chapter. All other provisions contained in the TRICARE managed care support contract, TRICARE Operations Manual (6010.51-M), TRICARE Policy Manual 6010.54-M), TRICARE Systems Manual (7950.1-M), and TRICARE Reimbursement Manual (6010.55-M), shall apply in Alaska.

B. Description of Extension of Demonstration Project

The demonstration project will now be extended for 1 additional year (March 31, 2011).

Dated: December 15, 2009.
Patricia L. Toppings,
OSD Federal Register Liaison Officer, Department of Defense.

[FR Doc. E9-30089 Filed 12-17-09; 8:45 am]

BILLING CODE 5001-06-P